RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB) for the following collection of information: 3220-0184, Earnings Information Request. Review and approval by OIRA ensures that we impose appropriate paperwork burdens.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Under Section 2 of the Railroad Retirement Act, an annuity is not payable, or is reduced for any month(s) in which the beneficiary works for a railroad or earns more than prescribed amounts. The provisions relating to the reduction or non-payment of annuities by reason of work are prescribed in 20 CFR part 230.

To obtain the information needed to determine if an annuity is not payable to an applicant because of earnings in excess of prescribed amounts, the RRB uses a series of basic application forms used to request specific information related to an annuitant's past, present and future earnings. To determine information needed for determining reductions in, or non-payment of, annuities currently being paid to annuitants, the RRB primarily relies on earnings information received from the Social Security Administration under the terms of a computer matching agreements.

The RRB utilizes Form G-19-F, Earnings Information Request, to obtain earnings information that either had not been previously reported or erroneously reported by a beneficiary. In order to enhance program integrity, the RRB proposes to revise Form G-19-F to expand a current item that requests information about the annuitant's employer to include the employer's identification number (EID). Other minor non-burden impacting editorial changes are also proposed.

Our ICR describes the information we seek to collect from the public. If a respondent fails to complete the form, the RRB may be unable to pay them benefits. One response is required from a respondent.

Previous Requests for Comments: The RRB has already published the initial 60-day notice (72 FR 20390 on April 24, 2007) required by 44 U.S.C. 3506(c)(2). That request elicited no comments.

Information Collection Request (ICR)

Title: Earnings Information Request.

OMB Control Number: 3220-0184.

Form(s) submitted: G-19F.

Type of request: Revision of a currently approved collection.

Affected public: Individuals or households.

Abstract: Under Section 2 of the Railroad Retirement Act, an annuity is not payable or is reduced for any month(s) in which the beneficiary works for a railroad or earns more than prescribed amounts. The collection obtains earnings information not previously or erroneously reported by a beneficiary.

Changes Proposed: In order to enhance program integrity the RRB proposes changes to Form G-19-F to expand a current item that requests information about the annuitant's employer to include the employer's identification number. Minor non-burden impacting editorial changes are also proposed.

The burden estimate for the ICR is as follows:

Estimated completion time for RRB Form G-19-F: 8 minutes.

Estimated annual number of respondents: 900.

Total annual responses: 900.

Total annual reporting hours: 120.

Additional Information or Comments:

Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E7-13411 Filed 7-10-07; 8:45 am]

BILLING CODE 7905-01-P